DEPARTMENT OF COMMERCE

International Trade Administration

[A-570-909]

Certain Steel Nails From the People's Republic of China: Preliminary Results of Antidumping Duty Administrative Review and Preliminary Determination of No Shipments; 2021-2022

AGENCY: Enforcement and Compliance, International Trade Administration, Department of Commerce.

SUMMARY: The U.S. Department of Commerce (Commerce) preliminarily determines that Shanghai Yueda Nails Co., Ltd., a.k.a. Shanghai Yueda Nails Industry Co., Ltd. (Shanghai Yueda), an exporter of certain steel nails from the People's Republic of China (China), sold subject merchandise in the United States at prices below normal value (NV) during the period of review (POR) August 1, 2021, through July 31, 2022. Interested parties are invited to comment on these preliminary results.

DATES: Applicable August 25, 2023.

FOR FURTHER INFORMATION CONTACT: Bob Palmer or Bill Horn, AD/CVD Operations, Office VIII, Enforcement and Compliance, International Trade Administration, Department of Commerce, 1401 Constitution Avenue NW, Washington, DC 20230; telephone: (202) 482-9068 or (202) 482-4868, respectively.

SUPPLEMENTARY INFORMATION:

Background

This administrative review is being conducted in accordance with section 751(a) of the Tariff Act of 1930, as amended (the Act). Commerce published the notice of initiation of this administrative review on October 11, 2022.¹ On March 28, 2023, Commerce extended the preliminary results deadline until August 18, 2023.²

¹ See Initiation of Antidumping and Countervailing Duty Administrative Reviews, 87 FR 61278 (October 11, 2022).

² See Memorandum, “Extension of Deadline for Preliminary Results of Antidumping Duty Administrative Review,” dated March 29, 2023.

Scope of the Order ³

³ See Notice of Antidumping Duty Order: Certain Steel Nails from the People's Republic of China, 73 FR 44961 (August 1, 2008) (Order).

The products covered by the Order are nails from China. A full description of the scope of the Order is contained in the Preliminary Decision Memorandum.⁴

⁴ For a complete description of the scope of the Order, see Memorandum, “Decision Memorandum for the Preliminary Results of Antidumping Duty Administrative Review: Certain Steel Nails from the People's Republic of China; 2021-2022,” dated concurrently with, and hereby adopted by, this notice (Preliminary Decision Memorandum).

Preliminary Determination of No Shipments

Based on our analysis of U.S. Customs and Border Protection (CBP) information, and the no shipment certifications submitted by eight companies,⁵ Commerce preliminarily determines that these companies had no shipments of subject merchandise during the POR.

⁵ The companies that we preliminarily determine had no shipments during the POR are: (1) Hebei Minmetals Co., Ltd.; (2) Nanjing Caiqing Hardware Co., Ltd.; (3) Nanjing Yuechang Hardware Co., Ltd.; (4) Shandong Qingyun Hongyi Hardware Products Co., Ltd.; (5) Shanxi Hairui Trade Co., Ltd.; (6) Suntec Industries Co., Ltd.; (7) Tianjin Jinchi Metal Products Co., Ltd.; and (8) Xi'an Metals & Minerals Import & Export Co., Ltd.

Consistent with our practice in non-market economy (NME) cases, we are not rescinding this review but instead intend to complete the review with respect to these eight companies for which we have preliminarily found no shipments and issue appropriate instructions to CBP based on the final results of the review.⁶

⁶ See Non-Market Economy Antidumping Proceedings: Assessment of Antidumping Duties, 76 FR 65694, 65694-95 (October 24, 2011) (NME Practice).

Methodology

Commerce is conducting this review in accordance with section 751(a)(1)(B) of the Act. We calculated export prices in accordance with section 772 of the Act. Because China is an NME country within the meaning of section 771(18) of the Act, NV has been calculated in accordance with section 773(c) of the Act.

For a full description of the methodology underlying our conclusions, see the Preliminary Decision Memorandum. A list of the topics discussed in the Preliminary Decision Memorandum is included as an Appendix to this notice. The Preliminary Decision Memorandum is a public document and is made available to the public via Enforcement and Compliance's Antidumping and Countervailing Duty Centralized Electronic Service System (ACCESS). ACCESS is available to registered users at https://access.trade.gov. In addition, a complete version of the Preliminary Decision Memorandum is available at https://access.trade.gov/public/FRNoticesListLayout.aspx.

Verification

As provided in sections 782(i)(3)(A)-(B) of the Act, we intend to verify the information upon which we will rely in determining our final results of review with respect to the mandatory respondent, Shanghai Yueda.

Preliminary Results of the Review

Commerce preliminarily finds that two companies for which a review was requested, Dezhou Hualude Hardware Products Co., Ltd. and S-Mart (Tianjin) Technology Development Co., Ltd., did not establish eligibility for a separate rate because they failed to provide either a separate rate application, separate rate certification, or respond to section A of Commerce's NME questionnaire. As such, we preliminarily determine that these two companies are part of the China-wide entity.⁷

⁷ Because no interested party requested a review of the China-wide entity and Commerce no longer considers the China-wide entity as an exporter conditionally subject to administrative reviews, we did not conduct a review of the China-wide entity. Thus, the rate (i.e., 118.04 percent) for the China-wide entity is not subject to change as a result of this review. See Antidumping Proceedings: Announcement of Change in Department Practice for Respondent Selection in Antidumping Duty Proceedings and Conditional Review of the Nonmarket Economy Entity in NME Antidumping Duty Proceedings, 78 FR 65963, 65969-70 (November 4, 2013).

As a result of our analysis of the information on the record, Commerce preliminarily determines the following estimated weighted-average dumping margin exists for the POR:

Exporter | Weighted- average dumping margin (percent ad valorem)
Shanghai Yueda Nails Co., Ltd., a.k.a. Shanghai Yueda Nails Industry Co., Ltd | 20.49

Disclosure and Public Comment

Commerce intends to disclose the calculations performed for these preliminary results to the parties no later than five days after the date of publication of this notice in accordance with 19 CFR 351.224(b).

Because, as noted above, Commerce intends to verify the information upon which it will rely in making its final determination, interested parties may submit written comments in the form of case briefs within seven days after the issuance of the verification report and rebuttal comments in the form of rebuttal briefs within seven days after the time limit for filing case briefs.⁸ Parties who submit case briefs or rebuttal briefs in this proceeding are encouraged to submit with each argument: (1) a statement of the issue; (2) a brief summary of the argument; and (3) a table of authorities. Rebuttal briefs, limited to issues raised in the case briefs, may be filed no later than seven days after the case briefs are filed.⁹

⁸ See 19 CFR 351.309(c)(1)(ii) and 351.309(d)(1); see also 19 CFR 351.303 (for general filing requirements).

⁹ See 19 CFR 351.309(d); Temporary Rule Modifying AD/CVD Service Requirements Due to COVID-19; Extension of Effective Period, 85 FR 41363 (July 10, 2020) (Temporary Rule).

Pursuant to 19 CFR 351.310(c), interested parties who wish to request a hearing must submit a written request to the Assistant Secretary for Enforcement and Compliance within 30 days of the date of publication of this notice. Requests should contain: (1) the party's name, address, and telephone number; (2) the number of participants and whether any of those individuals is a foreign national; and (3) a list of issues parties intend to discuss. Issues raised in the hearing will be limited to those raised in the respective case and rebuttal briefs.¹⁰ If a request for a hearing is made, Commerce intends to hold the hearing at a date and time to be determined.¹¹ Parties should confirm by telephone the date, time, and location of the hearing two days before the scheduled date.

¹⁰ See 19 CFR 351.310(c).

¹¹ See 19 CFR 351.310(d).

All submissions to Commerce must be filed electronically using ACCESS ¹² and must also be served on interested parties.¹³ An electronically filed document must be received successfully in its entirety by ACCESS, by 5 p.m. Eastern Time (ET) on the date that the document is due. Note that Commerce has temporarily modified certain of its requirements for serving documents containing business proprietary information, until further notice.¹⁴

¹² See 19 CFR 351.303.

¹³ See 19 CFR 351.303(f).

¹⁴ See Temporary Rule.

Commerce intends to issue the final results of this administrative review, which will include the results of its analysis of issues raised in any briefs, within 120 days of the date of publication of these preliminary results, pursuant to section 751(a)(3)(A) of the Act, unless this deadline is extended.

Assessment Rates

Upon issuance of the final results, Commerce will determine, and CBP shall assess, antidumping duties on all appropriate entries covered by this review.¹⁵ Commerce intends to issue assessment instructions to CBP 35 days after the publication date of the final results of this review in the Federal Register. If a timely summons is filed at the U.S. Court of International Trade, the assessment instructions will direct CBP not to liquidate relevant entries until the time for parties to file a request for a statutory injunction has expired (i.e., within 90 days of publication).

¹⁵ See 19 CFR 351.212(b)(1).

If Shanghai Yueda's ad valorem weighted-average dumping margin is not zero or de minimis (i.e., less than 0.50 percent) in the final results of this review, Commerce will calculate importer-specific assessment rates on the basis of the ratio of the total amount of dumping calculated for the importer's examined sales and the total quantity of those sales, in accordance with 19 CFR 351.212(b)(1).¹⁶ Commerce will also calculate estimated ad valorem importer-specific assessment rates with which to assess whether the per-unit assessment rate is de minimis.¹⁷ We will instruct CBP to assess antidumping duties on all appropriate entries covered by this review when the importer-specific ad valorem assessment rate calculated in the final results of this review is not zero or de minimis. Where Shanghai Yueda's ad valorem weighted-average dumping margin is zero or de minimis, or an importer-specific ad valorem assessment rate is zero or de minimis,¹⁸ we will instruct CBP to liquidate the appropriate entries without regard to antidumping duties.

¹⁶ In these preliminary results, Commerce applied the assessment rate calculation method adopted in Antidumping Proceedings: Calculation of the Weighted-Average Dumping Margin and Assessment Rate in Certain Antidumping Proceedings: Final Modification, 77 FR 8101 (February 14, 2012).

¹⁷ For calculated (estimated) ad valorem importer-specific assessment rates used in determining whether the per-unit assessment rate is de minimis, see Memorandum, “Preliminary Results Margin Calculation for Shanghai Yueda Nails Co., Ltd.,” dated concurrently with this notice, and accompanying Margin Calculation Program Logs and Outputs.

¹⁸ See 19 CFR 351.106(c)(2).

For the final results, if we continue to treat the two companies, identified above, as part of the China-wide entity, we will instruct CBP to apply an ad valorem assessment rate of 118.04 percent to all entries of subject merchandise during the POR which was exported by those companies.

For entries that were not reported in the U.S. sales data submitted by Shanghai Yueda, Commerce will instruct CBP to liquidate such entries at the rate for the China-wide entity.¹⁹ Additionally, if Commerce determines that an exporter under review had no shipments of the subject merchandise, any suspended entries that entered under that exporter's case number (i.e., at that exporter's cash deposit rate) will be liquidated at the rate for the China-wide entity.²⁰

¹⁹ See NME Practice for a full discussion.

²⁰ Id.

In accordance with section 751(a)(2)(C) of the Act, the final results of this review shall be the basis for the assessment of antidumping duties on entries of merchandise covered by the final results of this review and for future deposits of estimated antidumping duties, as applicable.

Cash Deposit Requirements

The following cash deposit requirements will be effective upon publication of the final results of this administrative review for shipments of the subject merchandise from China entered, or withdrawn from warehouse, for consumption on or after the publication date, as provided by section 751(a)(2)(C) of the Act: (1) for Shanghai Yueda, the cash deposit rate will be equal to the weighted-average dumping margin established in the final results of this review (except that if the ad valorem rate is de minimis, then the cash deposit rate will be zero); (2) for previously investigated or reviewed Chinese and non-Chinese exporters not listed above that have separate rates, the cash deposit rate will continue to be the existing exporter-specific cash deposit rate; (3) for all Chinese exporters of subject merchandise that have not been found to be entitled to a separate rate, the cash deposit rate will be the rate for the China-wide entity; and (4) for all non-Chinese exporters of subject merchandise which have not received their own separate rate, the cash deposit rate will be the rate applicable to the Chinese exporter that supplied that non-Chinese exporter. These cash deposit requirements, when imposed, shall remain in effect until further notice.

Notification to Importers

This notice also serves as a preliminary reminder to importers of their responsibility under 19 CFR 351.402(f)(2) to file a certificate regarding the reimbursement of antidumping duties prior to liquidation of the relevant entries during this POR. Failure to comply with this requirement could result in Commerce's presumption that reimbursement of antidumping duties occurred and the subsequent assessment of double antidumping duties.

Notification to Interested Parties

This administrative review and notice are issued and published in accordance with sections 751(a)(1) and 777(i)(1) of the Act, 19 CFR 351.213, and 19 CFR 351.221(b)(4).

Dated: August 18, 2023.
Lisa W. Wang,
Assistant Secretary for Enforcement and Compliance.

Appendix—List of Topics Discussed in the Preliminary Decision Memorandum

I. Summary

II. Background

III. Scope of the Order

IV. Preliminary Determination of No Shipments

V. Discussion of the Methodology

VI. Recommendation

[FR Doc. 2023-18314 Filed 8-24-23; 8:45 am]

BILLING CODE 3510-DS-P